DEPARTMENT OF THE INTERIOR

Bureau of Indian Affairs

Liquor Ordinance of the Wichita and Affiliated Tribes; Correction

AGENCY: Bureau of Indian Affairs, Interior

ACTION: Notice; correction

SUMMARY: The Bureau of Indian Affairs published a document in the Federal Register of July 27, 2010, concerning the Liquor Ordinance of the Wichita and Affiliated Tribes. The notice refers to an amended ordinance of the Wichita and Affiliated Tribes when in fact the Liquor Ordinance adopted by Resolution No. WT-10-31 on May 14, 2010 is an entirely new ordinance. The notice also erroneously refers in one location to an “amended ordinance of the Prairie Band Potawatomi Nation.”

DATES: Effective Date: This correction is effective as of August 18, 2010.

FOR FURTHER INFORMATION CONTACT: Elizabeth Colliflower, Office of Tribal Services, 1849 C Street, NW., Mail Stop 4513-MIB, Washington, DC 20240; Telephone (202) 513-7641; Fax (202) 208-5113.

Correction

In the Federal Register of July 27, 2010, in FR Doc. 2010-18319, on page 44011, in the first and second columns, delete the word “amended” wherever it appears. On page 44011, in the second column, remove the sentence:

“The amended Liquor Ordinance of the Prairie Band Potawatomi Nation reads as follows:” and add in its place the sentence:

“The Liquor Ordinance of the Wichita and Affiliated Tribes reads as follows:”

Dated: August 11, 2010.
George Skibine,
Acting Principal Deputy Assistant Secretary, Office of the Assistant Secretary—Indian Affairs.

[FR Doc. 2010-20421 Filed 8-17-10; 8:45 am]

BILLING CODE 4310-4J-P